DEPARTMENT OF STATE

[Public Notice 6739]

Notice of Public Meeting

SUMMARY: The U.S. Department of State, Bureau of Oceans and International Environmental and Scientific Affairs (OES), Office of Marine Conservation announces that the Advisory Panel to the U.S. Section of the North Pacific Anadromous Fish Commission will meet on September 23, 2009.

DATES: The meeting will take place via teleconference on September 23, 2009 from 1 p.m. to 3 p.m. Eastern time.

Meeting Details: The teleconference call-in number is toll-free 1-888-456-0348, passcode 20935, and will have a limited number of lines for members of the public to access from anywhere in the United States. Callers will hear instructions for using the passcode and joining the call after dialing the toll-free number noted. Members of the public wishing to participate in the teleconference must contact the OES officer in charge as noted in the FOR FURTHER INFORMATION CONTACT section below no later than close of business on Monday, September 21, 2009.

FOR FURTHER INFORMATION CONTACT: John Field, Office of Marine Conservation, OES, Room 2758, U.S. Department of State, 2201 C Street, NW., Washington, DC 20520. Telephone (202) 647-3263, fax (202) 736-7350, e-mail fieldjd@state.gov.

SUPPLEMENTARY INFORMATION: In accordance with the requirements of the Federal Advisory Committee Act, notice is given that the Advisory Panel to the U.S. Section of the North Pacific Anadromous Fish Commission (NPAFC) will meet on the date and time noted above. The panel consists of members from the states of Alaska and Washington who represent the broad range fishing and conservation interests in anadromous and ecologically related species in the North Pacific. Certain members also represent relevant state and regional authorities. The panel was established in 1992 to advise the U.S. Section of the NPAFC on research needs and priorities for anadromous species, such as salmon, and ecologically related species occurring in the high seas of the North Pacific Ocean. The upcoming Panel meeting will focus on three major topics: (1) Review of the agenda for the 2009 annual meeting of the NPAFC (November 2-6, 2009; Niigata, Japan); (2) logistics for the U.S. Section at the NPAFC meeting; and (3) the future status of the Panel. Background material is available from the point of contact noted above and by visiting http://www.npafc.org.

Dated: September 1, 2009.
William Gibbons-Fly,
Director, Office of Marine Conservation, Department of State.

[FR Doc. E9-21702 Filed 9-8-09; 8:45 am]

BILLING CODE 4710-09-P